DEPARTMENT OF HOMELAND SECURITY

Coast Guard

[Docket No. USCG-2007-27810]

National Maritime Security Advisory Committee

AGENCY: U.S. Coast Guard, DHS.

ACTION: Committee management; notice of open teleconference Federal Advisory Committee meeting.

SUMMARY: The National Maritime Security Advisory Committee (NMSAC) will conduct a meeting by teleconference to discuss the DHS Strategy to Enhance International Supply Chain Security.

DATES: The teleconference call will take place Thursday, May 3, 2007 from 2 p.m. to 3:30 p.m. EDT.

ADDRESSES: The call will be held in room 5222, U.S. Coast Guard Headquarters, 2100 Second St., SW., Washington, DC. Public participation is limited to monitoring the teleconference only, except at the time allotted by the chairperson for public comment; special note, the number of teleconference lines is limited and available on a first-come, first served basis. For call-in information contact Mr. Ike Eisentrout using the contact information below. Requests to have topic related written material distributed to each member of the committee prior to the meeting should reach the contact person at the address below by April 25, 2007. Send written material by mail or electronic mail according to the instructions below. Comments must be identified by docket number USCG-2007-27810 and may be submitted by one of the following methods:

• Federal eRulemaking Portal: http://www.regulations.gov. Follow the instructions for submitting comments.

• E-mail: NMSAC@uscg.mil. Include the docket number in the subject line of the message.

• Fax: 202-372-1905.

• Mail: National Maritime Security Advisory Committee, c/o Mr. Ike Eisentrout, CG-3PCP-1, Room 5302, 2100 2nd Street, SW., Washington, DC 20593.

Instructions: All submissions received must include the words “National Maritime Security Advisory Committee, Department of Homeland Security” and the docket number for this action. Comments received will be posted without alteration at http://www.regulations.gov, including any personal information provided.

Docket: For access to the docket to read background documents or comments received by the NMSAC, go to http://www.regulations.gov.

FOR FURTHER INFORMATION CONTACT: Mr. Ike Eisentrout, CG-3PCP-1/NMSAC, Room 5302, 2100 2nd Street, SW., Washington, DC 20593, telephone number 202-372-1119, e-mail brian.k.eisentrout@uscg.mil and fax number 202-372-1905.

SUPPLEMENTARY INFORMATION: Notice of this meeting is given under the Federal Advisory Committee Act, 5 U.S.C. App. 2.

From 2 p.m. EDT to 3:30 p.m. EDT, May 3, 2007 the committee will meet via teleconference for the purpose of discussing and approving the NMSAC's comments and recommendations on the review of the DHS Strategy to Enhance International Supply Chain Security. The chairperson of the NMSAC shall conduct the teleconference meeting in a way that will, in the chair's judgment, facilitate the orderly conduct of business. Please note that the teleconference may end early if all business is completed.

Agenda: (Agenda is tentative).

May 3, 2007 teleconference meeting: a. Discuss and approve the committee's final comments and recommendations on the DHS Strategy to Enhance International Supply Chain Security.

b. The Chairperson will announce the time allotted for public comments and discussion.

The teleconference call meeting is open to the public. Please note that the meeting call may end early if all business is finished. Security requires that any member of the public who wishes to attend the public session in person on May 3, 2007 at Coast Guard Headquarters provide his or her name and date of birth no later than 4 p.m. EDT, Monday, April 30, 2007, to Mr. Ike Eisentrout at NMSAC@uscg.mil, or via phone at (202) 372-1119. Please list the docket number and NMSAC Teleconference in the subject line on all e-mail messages. Photo identification will be required for entry into the building.

Information on Services for Individuals with Disabilities: For information on facilities or services for individuals with disabilities or to request special assistance at the meeting, contact Mr. Ike Eisentrout as soon as possible.

Dated: April 10, 2007.
T.L. Burke,
Commander, U.S. Coast Guard Office of Port & Facility Activities.

[FR Doc. E7-7072 Filed 4-12-07; 8:45 am]

BILLING CODE 4910-15-P